NUCLEAR REGULATORY COMMISSION

Advisory Committee on Nuclear Waste; Notice of Meeting

The Advisory Committee on Nuclear Waste (ACNW) will hold its 148th meeting on February 24-27, 2004, Room T-2B3, 11545 Rockville Pike, Rockville, Maryland.

The entire meeting will be open to public attendance except for portions that will be closed to discuss and protect information as well as unclassified safeguards information pursuant to 5 U.S.C. 552b(c)(1) and (3).

The schedule for this meeting is as follows:

Tuesday, February 24, 2004

8 a.m.-8:10 a.m.: Opening Statement (Open)—The Chairman will open the meeting and turn it over to the Working Group Chairman.

Working Group: Biosphere Dose Assessments for the Proposed Yucca Mountain High-Level Waste Repository (Open)

10 a.m.-8:20 a.m.: The Working Group Chairman will discuss the purposes of these working group sessions.

8:20 a.m.-8:50 a.m.: Keynote Presentation: What are the key issues in Biosphere Dose Assessments? How do the assessments enhance confidence by estimating potential doses? (Open)—The Committee will hear and discuss views on biosphere dose assessments by a distinguished expert.

8:50 a.m.-9:50 a.m.: Introduction to Biosphere Dose Assessment: NRC Staff Expectations Regarding Content of Potential Yucca Mountain License Application (Open)—The Committee will hear presentations by NRC staff representatives regarding the potential Yucca Mountain license application.

10:10 a.m.-11:10 a.m.: U.S. Department of Energy (DOE) Approach to Conducting Biosphere Dose Assessments for Yucca Mountain (Open)—The Committee will hear a presentation by DOE representatives regarding the biosphere dose assessments for Yucca Mountain.

11:10 a.m.-12 Noon: Public Comments (Open)—The Committee will hear comments from the public.

1 p.m.-5:15 p.m.: Technical Session Discussions: Elements of a Biosphere Dose Assessment Program (Open)—The Committee will hear presentations on two key areas of interest: environmental pathway analysis and metabolic models.

5:15 p.m.-5:45 p.m.: Public Comments (Open)—The Committee will hear comments from the public.

Wednesday, February 25, 2004

8 a.m.-8:10 a.m.: Opening Statement (Open)—The Working Group Chairman will make opening remarks regarding the conduct of today's sessions.

Working Group: Biosphere Dose Assessments for the Proposed Yucca Mountain High-Level Waste Repository—Continued (Open)

8:10 a.m.-9:40 a.m.: NRC's Risk Insights Initiative: Impact on Biosphere Dose Assessment Plans (Open)—The Committee will hear presentations by NRC and DOE representatives regarding agreement information needs to be included in a potential Yucca Mountain License Application.

9:55 a.m.-12 Noon: Presentations by Stakeholder Organizations (Open)—The Committee will hear presentations by stakeholder organizations.

1 p.m.-1:30 p.m.: NRC's Office of Nuclear Regulatory Research (RES) Perspective on Biosphere Dose Assessments (Open)—The Committee will hear a presentation by NRC RES representative regarding biosphere dose assessments.

1:30 p.m.-2:45 p.m.: Working Group Roundtable Panel Discussion (Open)

3 p.m.-4 p.m.: Panel and Committee Summary Discussion (Open)

4 p.m.-4:30 p.m.: Public Comments (Open)

4:30 p.m.-4:45 p.m.: Closing Comments by the Working Group Chairman (Open)

4:45 p.m.-5:45 p.m.: Discussion of ACNW Letter Report (Open)—The Committee will outline the principal points to be included in a potential letter report resulting from these Working Group sessions.

Thursday, February 26, 2004

11:30 a.m.-11:40 a.m.: Opening Remarks by the ACNW Chairman (Open)—The Chairman will make opening remarks regarding the conduct of today's sessions.

11:40 a.m.-12:30 p.m.: Waste Management—Related Safety Research Report (Open)—The Committee will discuss recent Member activities relevant to the ACNW review of NRC waste management-related safety research as well as discuss a proposed report.

1:30 p.m.-4:30 p.m.: Radiological Dispersal Devices (Closed)—The Committee will be briefed by the NRC staff on the current status of work in progress on health and safety and public protection issues related to radiological dispersal devices.

4:45 p.m.-6:30 p.m.: Preparation of ACNW Reports (Open)—The Committee will discuss potential ACNW reports on matters discussed during this meeting. It may also discuss possible reports on matters discussed during prior meetings.

Friday, February 27, 2004

8:30 a.m.-8:35 a.m.: Opening Remarks by the ACNW Chairman (Open)—The Chairman will make opening remarks regarding the conduct of today's sessions.

8:35 a.m.-10 a.m.: Risk Insights Report (Open)—The Committee will be updated by and hold discussions with representatives of the NRC staff on recent risk insight activities.

10:15 a.m.-11:15 a.m.: Report on Key Technical Issue (KTI) Status and DWM Evaluation of DOE's Bundling Approach (Open)—The Committee will be briefed by a representative of the NRC staff on the status of Yucca Mountain KTIs and the results of its evaluation of DOE “Bundles” received to date.

11:15 a.m.-2:45 p.m.: Preparation of ACNW Reports (Open/Closed)—The Committee will continue discussion of proposed ACNW reports. In addition, the Committee will discuss a proposed ACNW report on Radiological Dispersal Device (Closed).

2:45 p.m.-3 p.m.: Miscellaneous (Open)—The Committee will discuss matters related to the conduct of Committee activities and matters and specific issues that were not completed during previous meetings, as time and availability of information permit.

Procedures for the conduct of and participation in ACNW meetings were published in the Federal Register on October 16, 2003 (68 FR 59643). In accordance with these procedures, oral or written statements may be presented by members of the public. Electronic recordings will be permitted only during those portions of the meeting that are open to the public. Persons desiring to make oral statements should notify Mr. Howard J. Larson, Special Assistant (Telephone 301-415-6805), between 7:30 a.m. and 4 p.m. ET, as far in advance as practicable so that appropriate arrangements can be made to schedule the necessary time during the meeting for such statements. Use of still, motion picture, and television cameras during this meeting will be limited to selected portions of the meeting as determined by the ACNW Chairman. Information regarding the time to be set aside for taking pictures may be obtained by contacting the ACNW office prior to the meeting. In view of the possibility that the schedule for ACNW meetings may be adjusted by the Chairman as necessary to facilitate the conduct of the meeting, persons planning to attend should notify Mr. Howard J. Larson as to their particular needs.

In accordance with Subsection 10(d) Pub.L. 92-463, I have determined that it is necessary to close portions of this meeting noted above to discuss and protect information as well as unclassified safeguards information pursuant to 5 U.S.C. 552b(c)(1) and (3).

Further information regarding topics to be discussed, whether the meeting has been canceled or rescheduled, the Chairman's ruling on requests for the opportunity to present oral statements and the time allotted, therefore can be obtained by contacting Mr. Howard J. Larson.

ACNW meeting agenda, meeting transcripts, and letter reports are available through the NRC Public Document Room at pdr@nrc.gov, or by calling the PDR at 1-800-397-4209, or from the Publicly Available Records System (PARS) component of NRC's document system (ADAMS) which is accessible from the NRC Web site at http://www.nrc.gov/reading-rm/adams.html or http://www.nrc.gov/reading-rm/doc-collections/ (ACRS & ACNW Mtg schedules/agendas).

Video Teleconferencing service is available for observing open sessions of ACNW meetings. Those wishing to use this service for observing ACNW meetings should contact Mr. Theron Brown, ACNW Audiovisual Technician (301-415-8066), between 7:30 a.m. and 3:45 p.m. ET, at least 10 days before the meeting to ensure the availability of this service. Individuals or organizations requesting this service will be responsible for telephone line charges and for providing the equipment and facilities that they use to establish the video teleconferencing link. The availability of video teleconferencing services is not guaranteed.

Dated: January 28, 2004.
Andrew L. Bates,
Advisory Committee Management Officer.

[FR Doc. 04-2115 Filed 2-2-04; 8:45 am]

BILLING CODE 7590-01-P